DEPARTMENT OF THE INTERIOR

Bureau of Land Management

[AZ-910-0777-26-241A]

State of Arizona Resource Advisory Council Meeting

AGENCY: Bureau of Land Management, Interior.

ACTION: Arizona Resource Advisory Council Meeting notice.

SUMMARY: This notice announces a meeting of the Arizona Resource Advisory Council (RAC).

The business meeting will be held on January 27, 2003, at the Crowe Plaza, 2532 W. Peoria Avenue in Phoenix, Arizona. It will begin at 9:30 a.m. and conclude at 4 p.m. The agenda items to be covered include: review of the October 3, and November 20, 2002 meeting minutes; BLM State Director's Update on Statewide Issues; Briefing on three-issues (Burro-Herd Management Area, Palamarita Burro Gather, and Range Allotment Monitoring) requested by the Mohave Livestock Association; Update on Land Use Planning Efforts. Update on the Southwest Strategy, RAC Questions on Written Reports from BLM Field Office Managers; Update Proposed Field Office Rangeland Resource Teams, Reports by the Standards and Guidelines, Recreation, Public Relations, Land Use Planning, Wild Horse and Burro Working Groups; Reports from RAC members; and Discussion of future meetings. A public comment period will be provided at 11:30 a.m. on January 27, for any interested publics who wish to address the Council.

FOR FURTHER INFORMATION CONTACT: Deborah Stevens, Bureau of Land Management, Arizona State Office, 222 North Central Avenue, Phoenix, Arizona 85004-2203, (602) 417-9215.

Elaine Y. Zielinski,
Arizona State Director.

[FR Doc. 02-32702 Filed 12-26-02; 8:45 am]

BILLING CODE 4310-32-M